DEPARTMENT OF ENERGY

Federal Energy Regulatory Commission

[Docket No. PF18-6-000]

Summit Permian Transmission, LLC; Notice of Intent To Prepare an Environmental Document for the Planned Double E Pipeline Project and Request for Comments on Environmental Issues

The staff of the Federal Energy Regulatory Commission (FERC or Commission) will prepare an environmental document that will discuss the environmental impacts of the Double E Pipeline Project involving construction and operation of facilities by Summit Permian Transmission, LLC (Summit) in New Mexico and Texas. The Commission will use this environmental document in its decision-making process to determine whether the project is in the public convenience and necessity.

This notice announces the opening of the scoping process the Commission will use to gather input from the public and interested agencies about issues regarding the project. The National Environmental Policy Act (NEPA) requires the Commission to consider the environmental impacts that could result from its action whenever it considers the issuance of a Certificate of Public Convenience and Necessity. NEPA also requires the Commission to discover concerns the public may have about proposals. This process is referred to as “scoping.” The main goal of the scoping process is to focus the analysis in the Commission's environmental document on the important environmental issues. By this notice, the Commission requests public comments on the scope of the issues to address. Your input will also help the Commission staff determine whether the preparation of an environmental assessment, or an environmental impact statement, would be appropriate for this project. To ensure that your comments are timely and properly recorded, please submit your comments so that the Commission receives them in Washington, DC on or before 5:00 p.m. Eastern Time on January 10, 2019.

You can make a difference by submitting your specific comments or concerns about the project. Your comments should focus on the potential environmental effects, reasonable alternatives, and measures to avoid or lessen environmental impacts. Your input will help the Commission staff determine the scope of the environmental review and what issues need to be evaluated. Commission staff will consider all filed comments during the preparation of the environmental document.

If you sent comments on this project to the Commission before the opening of this docket on July 25, 2018, you will need to file those comments in Docket No. PF18-6-000 to ensure they are considered as part of this proceeding.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable easement agreement. You are not required to enter into an agreement. However, if the Commission approves the project, that approval conveys with it the right of eminent domain. Therefore, if you and the company do not reach an easement agreement, the pipeline company could initiate condemnation proceedings in court. In such instances, compensation would be determined by a judge in accordance with state law.

A fact sheet prepared by the FERC entitled “An Interstate Natural Gas Facility On My Land? What Do I Need To Know?” is available for viewing on the FERC website (www.ferc.gov) at https://www.ferc.gov/resources/guides/gas/gas.pdf. This fact sheet addresses a number of typically asked questions, including the use of eminent domain and how to participate in the Commission's proceedings.

Public Participation

The Commission offers a free service called eSubscription that makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, three methods are available to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a “Comment on a Filing”; or

(3) You can file a paper copy of your comments by mailing them to the following address. Kimberly D. Bose, Secretary, Federal Energy Regulatory Commission, 888 First Street NE, Room 1A, Washington, DC 20426. Be sure to reference the project docket number (PF18-6-000) with your submission.

Please note this is not your only public input opportunity; please refer to the review process flow chart in appendix 1 for more information about opportunities to comment on this project.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371.

Summary of the Planned Project

The scope of facilities currently includes the following:

• Approximately 34 miles of new 30-inch-diameter trunk-line pipeline (Trunk-line 100 or T100) from Summit's existing Lane Processing Plant in Eddy County, New Mexico to a planned Poker Lake Compressor Station site, also in Eddy County. In addition to the trunk-line, this portion of the project would include:

—One 30-inch pig launcher ² and one receipt meter located within the Lane Processing Plant;

² A “pig” is a tool that the pipeline company inserts into and pushes through the pipeline for cleaning the pipeline, conducting internal inspections, or other purposes.

—two mainline block valves within a 40-foot by 50-foot gravel pad within the planned right-of-way; and

—one permanent and six temporary access roads.

• One new compressor station (Poker Lake Compressor Station), sited on approximately 70 acres on federal land managed by the U.S. Bureau of Land Management, in Eddy County. The new compressor station would require two Taurus 70 turbine-driven compressor units, totaling about 22,200 horsepowers. Associated facilities would include one 42-inch pig launcher; one 30-inch pig receiver; and one receipt meter located at the Poker Lake Compressor Station site with an expected volume of 175 million standard cubic feet per day (MMscfd).

• Approximately 81.1 miles of new 42-inch-diameter trunk-line pipeline (Trunk-line 200 or T200) from the planned Poker Lake Compressor Station; through Loving, Ward, and Reeves Counties, Texas and terminating at the Waha Pigging Station in Reeves County, Texas. In addition to the trunk-line, this portion of the project would include:

—Four mainline block valves within a 40-foot by 50-foot gravel pad within the planned right-of-way;

—one 42-inch pig receiver, located within the Waha Hub Pigging Station site; and six permanent and 22 temporary access roads.

• Approximately 17.3 miles of new 30-inch-diameter lateral-line pipeline (Lateral 100 or L100) from the existing Loving Processing Plants to the planned trunk-line in Eddy County, New Mexico. Additional facilities would include:

—One 30-inch pig launcher within an approximate 300-foot by 300-foot site;

—one 30-inch pig receiver within an approximate 200-foot by 200-foot site; and

—three receipt meters with an approximate 300-foot by 300-foot site, including:

One receipt meter to serve the new Sendero Midstream Partners Plant, currently under construction;

one receipt meter to serve the existing Matador Resources Company's Plant; and

one receipt meter to serve the new Lucid Energy Group Road Runner Plant, currently under construction.

—one permanent and four temporary access roads.

• Approximately 1.4 miles of new 42-inch-diameter trunk-line (Trunk-line 300 or T300) from the planned Summit Waha Pigging Station site in Reeves County, Texas to the final delivery locations in the Waha Hub in Pecos, County, Texas. Aboveground facilities would include:

—One delivery meter to serve Kinder Morgan's Permian Highway Pipeline, currently under construction;

—one delivery meter to serve Kinder Morgan's existing Gulf Coast Express Pipeline; and

—one delivery meter to serve Energy Transfer Company's existing Trans Pecos Pipeline header pipeline.

• Approximately 160 acres of temporary laydown or pipeyards are planned for the project. In addition, fiber optic cables would be installed within the same trench as the pipelines, for facility communications and operation.

Summit anticipates initial construction activities to begin in April 2020, with a planned in-service date of April 2021. The general location of the project facilities is shown in appendix 2.³

³ The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to the last page of this notice.

Land Requirements for Construction

Construction of the planned facilities would disturb about 2,730 acres of land, including the trunk-line and lateral pipelines, new compressor station and the aboveground facilities. Following construction, Summit would maintain about 976 acres for permanent operation of the project's facilities; the remaining acreages would be restored and revert to their former uses. About 93 percent of the planned pipeline route parallels existing pipeline, utility, or road rights-of-way.

The NEPA Process

The environmental document will discuss impacts that could occur as a result of the construction and operation of the planned project under these general headings:

• Geology and soils;

• water resources and wetlands;

• vegetation and wildlife;

• threatened and endangered species;

• cultural resources;

• land use;

• socioeconomics;

• air quality and noise;

• public safety; and

• cumulative impacts.

Commission staff will also evaluate possible alternatives to the planned project or portions of the project, and make recommendations on how to lessen or avoid impacts on the various resource areas.

Although no formal application has been filed, Commission staff have already initiated a NEPA review under the Commission's pre-filing process. The purpose of the pre-filing process is to encourage early involvement of interested stakeholders and to identify and resolve issues before the Commission receives an application. As part of the pre-filing review, Commission staff will contact federal and state agencies to discuss their involvement in the scoping process and the preparation of the environmental document.

The environmental document will present Commission staffs' independent analysis of the issues, and will be available in electronic format in the public record through eLibrary ⁴ and the Commission's website (https://www.ferc.gov/industries/gas/enviro/eis.asp). If eSubscribed, you will receive instant email notification when the environmental document is issued. The environmental document may be issued for an allotted public comment period. Commission staff will consider all comments on the environmental document before making recommendations to the Commission. To ensure Commission staff have the opportunity to consider and address your comments, please carefully follow the instructions in the Public Participation section, beginning on page 2.

⁴ For instructions on connecting to eLibrary, refer to the last page of this notice.

With this notice, the Commission is asking agencies with jurisdiction by law and/or special expertise with respect to the environmental issues related to this project to formally cooperate in the preparation of the environmental document.⁵ Agencies that would like to request cooperating agency status should follow the instructions for filing comments provided under the Public Participation section of this notice. Currently, the U.S. Bureau of Land Management (BLM), Carlsbad Field Office has expressed its intention to participate as a cooperating agency in the preparation of the environmental document to satisfy the BLM's NEPA responsibilities related to this project.

⁵ The Council on Environmental Quality regulations addressing cooperating agency responsibilities are at Title 40, Code of Federal Regulations, Part 1501.6.

Consultation Under Section 106 of the National Historic Preservation Act

In accordance with the Advisory Council on Historic Preservation's implementing regulations for section 106 of the National Historic Preservation Act, the Commission is using this notice to initiate consultation with the applicable State Historic Preservation Office(s), and to solicit their views and those of other government agencies, interested Indian tribes, and the public on the project's potential effects on historic properties.⁶ Commission staff will define the project-specific Area of Potential Effects (APE) in consultation with the SHPO(s) as the project develops. On natural gas facility projects, the APE at a minimum encompasses all areas subject to ground disturbance (examples include construction right-of-way, contractor/pipe storage yards, compressor stations, and access roads). The environmental document for this project will document the Commission staff's findings on the impacts on historic properties and summarize the status of consultations under section 106.

⁶ The Advisory Council on Historic Preservation regulations are at Title 36, Code of Federal Regulations, Part 800. Those regulations define historic properties as any prehistoric or historic district, site, building, structure, or object included in or eligible for inclusion in the National Register of Historic Places.

Currently Identified Environmental Issues

Commission staff have already identified several issues that deserve attention based on a preliminary review of the planned facilities and the environmental information provided by Summit. This preliminary list of issues may change based on your comments and our analysis.

• the project crosses federal lands managed by the BLM in New Mexico;

• the project crosses lands managed by New Mexico State Lands Trust;

• one or more known cultural resources sites may be impacted by the project; and

• sensitive plant and animal species may be affected by the project.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. Commission staff will update the environmental mailing list as the analysis proceeds to ensure that Commission notices related to this environmental review are sent to all individuals, organizations, and government entities interested in and/or potentially affected by the planned project.

When the Commission issues the environmental document for an allotted public comment period, a Notice of Availability of the environmental document will be sent to the environmental mailing list and will provide instructions to access the electronic document on the FERC's website (www.ferc.gov). If you need to make changes to your name/address, or if you would like to remove your name from the mailing list, please return the attached “Mailing List Update Form” (appendix 3).

Becoming an Intervenor

Once Summit files its application with the Commission, you may want to become an “intervenor” which is an official party to the Commission's proceeding. Only intervenors have the right to seek rehearing of the Commission's decision and be heard by the courts if they choose to appeal the Commission's final ruling. An intervenor formally participates in the proceeding by filing a request to intervene pursuant to Rule 214 of the Commission's Rules of Practice and Procedures (18 CFR 385.214). Motions to intervene are more fully described at http://www.ferc.gov/resources/guides/how-to/intervene.asp. Please note that the Commission will not accept requests for intervenor status at this time. You must wait until the Commission receives a formal application for the project, after which the Commission will issue a public notice that establishes an intervention deadline.

Additional Information

Additional information about the project is available from the Commission's Office of External Affairs, at (866) 208-FERC, or on the FERC website (www.ferc.gov) using the eLibrary link. Click on the eLibrary link, click on “General Search” and enter the docket number in the “Docket Number” field, excluding the last three digits (i.e., PF18-6). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Public sessions or site visits will be posted on the Commission's calendar located at www.ferc.gov/EventCalendar/EventsList.aspx along with other related information.

Dated: December 11, 2018.
Kimberly D. Bose,
Secretary.

[FR Doc. 2018-27296 Filed 12-17-18; 8:45 am]

BILLING CODE 6717-01-P